NUCLEAR REGULATORY COMMISSION

Advisory Committee on the Medical Uses of Isotopes; Meeting Notice

AGENCY: U.S. Nuclear Regulatory Commission.

ACTION: Notice of Meeting.

SUMMARY: The U.S. Nuclear Regulatory Commission will convene a meeting of the Advisory Committee on the Medical Uses of Isotopes (ACMUI) on October 29, 2001. The meeting will take place at the address provided below. All sessions of the meeting will be open to the public with the exception of the first session, which will be closed to provide ethics training for ACMUI members. Topics of discussion in the public session will include: (1) Status of the new 10 CFR part 35, Medical Use of Byproduct Material; (2) Recognition of Certification Boards; (3) Medical Physicist Qualification Criteria; (4) Intravascular Brachytherapy; and (5) Regulation of Occupational Radiation Doses involving both NRC-regulated Material and Fluoroscopy.

DATES: The public meeting will be held on Monday, October 29, 2001, from 9 a.m. to 4:30 p.m. The closed session will be held from 8 a.m. to 8:45 a.m.

ADDRESSES: U.S. Nuclear Regulatory Commission, Two White Flint North Building, Conference Room T2B3, 11545 Rockville Pike, Rockville, MD 20852-2738.

FOR FURTHER INFORMATION CONTACT: Angela R. Williamson, telephone (301) 415-5030; e-mail arw@nrc.gov of the Office of Nuclear Material Safety and Safeguards, U.S. Nuclear Regulatory Commission, Washington, DC 20555-0001.

Conduct of the Meeting

Manuel D. Cerqueira, M.D., will chair the meeting. Dr. Cerqueira will conduct the meeting in a manner that will facilitate the orderly conduct of business. The following procedures apply to public participation in the meeting:

1. Persons who wish to provide a written statement should submit a reproducible copy to Angela Williamson, U.S. Nuclear Regulatory Commission, Two White Flint North, Mail Stop T8F5, 11545 Rockville Pike, Rockville, MD 20852-2738. Submittals must be postmarked by October 22, 2001, and must pertain to the topics on the agenda for the meeting.

2. Questions from members of the public will be permitted during the meeting, at the discretion of the Chairman.

3. The transcript and written comments will be available for inspection on NRC's web site (www.nrc.gov) and at the NRC Public Document Room, 11555 Rockville Pike, Rockville, MD 20852-2738, telephone (800) 397-4209, on or about December 3, 2001. Minutes of the meeting will be available on or about January 7, 2002.

This meeting will be held in accordance with the Atomic Energy Act of 1954, as amended (primarily Section 161a); the Federal Advisory Committee Act (5 U.S.C. App); and the Commission's regulations in Title 10, U.S. Code of Federal Regulations, part 7.

Dated: September 13, 2001.
Andrew L. Bates,
Advisory Committee Management Officer.

[FR Doc. 01-23332 Filed 9-18-01; 8:45 am]

BILLING CODE 7590-01-P